DEPARTMENT OF COMMERCE

National Oceanic and Atmospheric Administration

[RTID 0648-XC533]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Amy Hapeman (Permit Nos. 26268 and 26329), Shasta McClenahan, Ph.D., (No. 21422-01, 25987, 26594, 26596, and 26602), Erin Markin, Ph.D., (Permit Nos. 20528-04 and 25818), Courtney Smith, Ph.D. (Permit Nos. 20648-02 and 26614), and Sara Young (Permit No. 26532); at (301) 427-8401.

SUPPLEMENTARY INFORMATION: Notices were published in the Federal Register on the dates listed below that requests for a permit, permit amendment, or permit modification had been submitted by the below-named applicants. To locate the Federal Register notice that announced our receipt of the application and a complete description of the activities, go to www.federalregister.gov and search on the permit number provided in Table 1 below.

Table 1—Issued Permits, Permit Amendments, and Permit Modifications
Permit No. | RTID | Applicant | Previous Federal Register Notice | Issuance date
20528-04 | 0648-XC354 | South Carolina Department of Natural Resources, 217 Fort Johnson Road, Charleston, SC 29412 (Responsible Party: Bill Post) | 87 FR 56002, September 13, 2022 | October 31, 2022.
20648-02 | 0648-XC126 | Heidi Pearson, Ph.D., University of Alaska—Southeast, 11120 Glacier Hwy, AND1, Juneau, AK 99801 | 87 FR 41291, July 12, 2022 | October 28, 2022.
21422-01 | 0648-XC100 | James Lloyd-Smith, Ph.D., University of California, Los Angeles, 610 Charles E. Young Dr. South, Box 723905, Los Angeles, CA 90095 | 82 FR 48985, October 23, 2017 | October 24, 2022.
25818 | 0648-XC238 | Paul Jobsis, Ph.D., University of the Virgin Islands, Center for Marine and Environmental Studies, 2 John Brewers Bay, St. Thomas, VI 00802 | 87 FR 48157, August 8, 2022 | October 25, 2022.
25987 | 0648-XC239 | James Darling, Ph.D., Whale Trust, P.O. Box 384, Tofino, BC V0R2Z0, Canada | 87 FR 47985, August 5, 2022 | October 26, 2022.
26268 | 0648-XC209 | Kate Mansfield, Ph.D., University of Central Florida, Biology, 4000 Central Florida Blvd. Bldg 20, Room 301, Orlando, FL 32816 | 87 FR 45761, July 29, 2022 | October 19, 2022.
26329 | 0648-XC195 | Brandon Southall, Ph.D., Southall Environmental Associates, Inc., 9099 Soquel Drive, Suite 8, Aptos, CA 95076 | 87 FR 43501, July 21, 2022 | October 21, 2022.
26532 | 0648-XC279 | The Marine Mammal Center, 2000 Bunker Road, Sausalito, CA 94965 (Responsible Party: Dominic Travis) | 87 FR 51060, August 19, 2022 | October 31, 2022.
26596 | 0648-XC295 | Robin Baird, Ph.D., Cascadia Research Collective, 2181/2 West Fourth Avenue, Olympia, WA 98501 | 87 FR 51969, August 24, 2022 | October 31, 2022.
26602 | 0648-XC313 | Alison Stimpert, Ph.D., Moss Landing Marine Laboratories, 8272 Moss Landing Rd, Moss Landing, CA 95039 | 87 FR 52749, August 29, 2022 | October 28, 2022.
26614 | 0648-XC198 | Craig Matkin, North Gulf Oceanic Society, 3430 Main St. Suite B1, Homer, AK 99603 | 87 FR 47722, August 4, 2022 | October 28, 2022.
26954 | 0648-XC312 | Ann Zoidis, Cetos Research Organization, 51 Kebo Ridge Road, Bar Harbor, ME 04609 | 87 FR 52752, August 29, 2022 | October 26, 2022.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222 through 226), as applicable.

Dated: November 7, 2022.
Julia M. Harrison,
Chief, Permits and Conservation Division, Office of Protected Resources, National Marine Fisheries Service.

[FR Doc. 2022-24645 Filed 11-10-22; 8:45 am]

BILLING CODE 3510-22-P